COMMITTEE FOR PURCHASE FROM PEOPLE WHO ARE BLIND OR SEVERELY DISABLED

Procurement List; Proposed Addition and Deletions

AGENCY: Committee for Purchase From People Who Are Blind or Severely Disabled.

ACTION: Proposed Addition to and Deletions from the Procurement List.

SUMMARY: The Committee is proposing to add a service to the Procurement List that will be provided by a nonprofit agency employing persons who are blind or have other severe disabilities and deletes products previously furnished by such agencies.

DATES: Comments Must be Received on or Before: 11/26/2012.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the service listed below from the nonprofit agency employing persons who are blind or have other severe disabilities.

The following service is proposed for addition to the Procurement List for production by the nonprofit agency listed:

Service

Service Type/Location: Custodial Service, U.S. Government Accountability Office (GAO) Field Office, 2196 D Street—Area B, Bldg. 39, Wright-Patterson AFB, Dayton, OH.

NPA: Goodwill Easter Seals Miami Valley, Dayton, OH.

Contracting Activity: U.S. Government Accountability Office (GAO), Except Comptroller General, GAO Acquisition Management, Washington, DC.

Deletions

The following products are proposed for deletion from the Procurement List:

Products

Presentation Sheets, “SmartChart”

NSN: 7520-01-483-8980—Refill Roll.

NPA: The Lighthouse for the Blind, Inc. (Seattle Lighthouse), Seattle, WA.

Contracting Activity: General Services Administration, New York, NY.

Computer Accessories

NSN: 7045-01-483-7840—Visionguard XL Anti-Glare Screen.

NPA: Wiscraft, Inc., Milwaukee, WI.

Contracting Activity: General Services Administration, New York, NY.

Hydramax Hydration System

NSN: 8465-01-524-2765—ALPHA Reflector, Orange Reflective Tape.

NPA: The Lighthouse for the Blind, Inc. (Seattle Lighthouse), Seattle, WA.

Contracting Activity: General Services Administration, Fort Worth, TX.

Barry S. Lineback,
Director, Business Operations.

[FR Doc. 2012-26358 Filed 10-25-12; 8:45 am]

BILLING CODE 6353-01-P